DEPARTMENT OF COMMERCE

National Oceanic and Atmospheric Administration

RIN 0648-AW91

Taking and Importing Marine Mammals; U.S. Navy Training in the Southern California Range Complex

AGENCY: National Marine Fisheries Service (NMFS), National Oceanic and Atmospheric Administration (NOAA), Commerce.

ACTION: Notice of issuance of a Letter of Authorization; request for comments on Integrated Comprehensive Management Program Plan.

SUMMARY: In accordance with the Marine Mammal Protection Act (MMPA), as amended, and implementing regulations, notice is hereby given that NMFS has issued a Letter of Authorization (LOA) to the U.S. Navy (Navy) to take marine mammals incidental to Navy training, maintenance, and research, development, testing, and evaluation (RDT&E) activities to be conducted within the Southern California (SOCAL) Range Complex, which extends south and southwest off the southern California coast, for the period of January 22, 2011, through January 21, 2012.

NMFS also provides notice that the Integrated Comprehensive Management Program (ICMP) Plan, which is intended for use as a planning tool to focus Navy monitoring priorities pursuant to the MMPA and Endangered Species Act (ESA), has been updated for 2011. NMFS encourages the public to review this document and provide comments, information, and suggestions on the ICMP Plan.

DATES: This Authorization is effective from January 22, 2011, through January 21, 2012. Comments and information on the ICMP Plan must be received no later than February 28, 2011.

ADDRESSES: The LOA and supporting documentation may be obtained by writing to P. Michael Payne, Office of Protected Resources, NMFS, 1315 East-West Highway, Silver Spring, MD 20910, or by telephoning one of the contacts listed here. The mailbox address for providing email comments on the ICMP Plan is ITP.Hopper@noaa.gov. Comments sent via e-mail, including all attachments, must not exceed a 10-megabyte file size.

FOR FURTHER INFORMATION CONTACT: Michelle Magliocca, Office of Protected Resources, NMFS, 301-713-2289, ext. 123.

SUPPLEMENTARY INFORMATION: Section 101(a)(5)(A) of the MMPA (16 U.S.C. 1361 et seq.) directs NMFS to allow, upon request, the incidental taking of marine mammals by U.S. citizens who engage in a specified activity (other than commercial fishing), if certain findings are made by NMFS and regulations are issued. Under the MMPA, the term “take” means to harass, hunt, capture, or kill or to attempt to harass, hunt, capture, or kill marine mammals.

Regulations governing the taking of marine mammals by the Navy incidental to training, maintenance, and RDT&E in the SOCAL Range Complex became effective on January 14, 2009 (74 FR 3881, January 21, 2009), and remain in effect through January 14, 2014. For detailed information on this action, please refer to that document. These regulations include mitigation, monitoring, and reporting requirements and establish a framework to authorize incidental take through the issuance of LOAs.

Summary of Request

On August 1, 2010, NMFS received a request from the Navy for a renewal of an LOA issued on January 22, 2010, for the taking of marine mammals incidental to training and research activities conducted within the SOCAL Range Complex under regulations issued on January 14, 2009 (74 FR 3881, January 21, 2009). The Navy has complied with the measures required in 50 CFR 216.274 and 216.275, as well as the associated 2010 LOA, and submitted the reports and other documentation required in the final rule and the 2010 LOA.

Summary of Activity Under the 2010 LOA

As described in the Navy's exercise reports (both classified and unclassified), in 2010, the training activities conducted by the Navy were within the scope and amounts authorized by the 2010 LOA and the levels of take remain within the scope and amounts contemplated by the final rule.

Planned Activities and Estimated Take for 2011

In 2011, the Navy expects to conduct the same type and amount of training identified in the 2010 LOA. Similarly, the authorized take will remain within the annual estimates analyzed in the final rule.

Summary of Monitoring, Reporting, and Other Requirements Under the 2010 LOA Annual Exercise Reports

The Navy submitted their classified and unclassified 2010 exercise reports within the required timeframes and the unclassified report is posted on NMFS Web site: http://www.nmfs.noaa.gov/pr/permits/incidental.htm. NMFS has reviewed both reports and they contain the information required by the 2010 LOA. The reports indicate the amounts of different types of training that occurred from August 2, 2009, through August 1, 2010. The Navy conducted five Major Training Exercises (MTEs)—one Sustainment Exercise (SUSTEX), two Integrated Anti-Submarine Warfare Courses (IAC II), and two Composite Training Exercises (C2X) (the rule authorizes eight per year)—for a total of 40 days.

The reports also list specific information gathered when marine mammals were detected by Navy watchstanders, such as how far an animal was from the vessel, whether sonar was in use, and whether it was powered or shut down. This information indicates that the Navy implemented the safety zone mitigation measures as required. No instances of obvious behavioral disturbance were reported by the Navy watchstanders in their 210 marine mammal sightings totaling 1,217 animals.

2010 Monitoring

The Navy conducted the monitoring required by the 2010 LOA and described in the Monitoring Plan, which included aerial and vessel surveys of sonar and exercises by dedicated MMOs, passive acoustic monitoring utilizing high-frequency acoustic recording packages (HARPs), and marine mammal tagging and tracking. The Navy submitted their 2010 Monitoring Report, which is posted on NMFS' Web site (http://www.nmfs.noaa.gov/pr/permits/incidental.htm), within the required timeframe. The Navy included a summary of their 2010 monitoring effort and results (beginning on page 182 of the monitoring report) and the specific reports for each individual effort are presented in the appendices. Because data is gathered through August 1 and the report is due in October, some of the data analysis will occur in the subsequent year's report. Navy-funded marine mammal monitoring accomplishments within SOCAL for the past year include the following:

Visual Surveys

The Navy completed a total of 1,061 hours of visual surveys during or after training events. During this time, there were 331 sightings of approximately 29,269 marine mammals and 26.3 hours of detailed behavioral focal follows were recorded. Preliminary results from a single survey show that the most frequent initial behavioral state observed for common dolphins and fin whales was traveling. While fin whales were only observed traveling (although sometimes at different speeds), common dolphins were also observed logging, milling, and resting. There was one interesting observation of a minke whale breaching at a time when no active sonar was being used and no Navy vessels were in the area. The Navy plans to upload visual data from the aerial surveys to OBIS-SEAMAP, a spatially referenced online database, by summer 2011.

Marine Mammal Observations

A total of 144 hours of marine mammal observer (MMO) effort was completed during Navy training events. Of the 210 Navy marine mammal sightings during MTEs, there were 62 sightings of 306 marine mammals within 1,000 yards that qualified as mitigation events. Of the 306 individuals observed, 71 percent were dolphins, 16 percent were whales, and 12 percent were pinnipeds. Of the 62 mitigation events, sonar was turned off during 29 periods and turned down during 27 periods. The remaining six periods when mitigation did not occur were explained due to bowriding dolphins (for which there is an exception in the shutdown requirements) or marine mammals leaving a mitigation zone. In total, the Navy lost a minimum of 20 hours of training time due to mitigation events. There were no reports of marine mammals behaving in any unusual manner during these events.

Passive Acoustic Monitoring

Two Passive Acoustic Monitoring (PAM) devices were deployed for a total of 15,335 hours of high-frequency acoustic recording package (HARP) recordings before, during, and after Navy training exercises. The devices detected at least 11 different marine mammal species during the monitoring period. Recordings from the delphinid species have been incorporated into a larger database of cetacean acoustic data and there are several current projects assessing clicks and/or whistles for species- and population-specific call structures.

Tagging

A total of 19 satellite tags were deployed on five different species of marine mammals. Highlights from the tagging results show long-term movement of Cuvier's beaked whales, one of the first indications that Southern California beaked whales may engage in non-local, out of area movement. Movements of a fin whale over a 160-day period have also been recorded.

In conclusion, the Navy's implementation of the monitoring plan accomplished several goals, primarily through contributions to larger bodies of data intended to better characterize the abundance, distribution, life history, and behaviors of the species in the SOCAL Range Complex. The monitoring satisfied the objectives of the monitoring plan and specifically contributed to a greater knowledge and understanding of: The density and distribution of species within the SOCAL Range Complex, which will be added to a growing database of marine mammal aggregations around the world; the vocalizations of different species, which contributes to the development of automated classification software; the movement patterns of individuals (both vertically in the water column on a daily basis, as well as horizontally over weeks and months); and the observable behavioral patterns of marine mammals, both with and without exposure to Navy training activities.

Except as described below in the Adaptive Management section, NMFS concludes that the results of these monitoring efforts, when taken together with the findings presented in the 2010 exercise report (see Annual Exercise Report section), do not warrant making changes to the current monitoring and mitigation requirements identified in the LOA. While the data collected by the Navy through monitoring and reporting builds on the existing body of information in a valuable way, none of the new data contradict, or amend, the assumptions that underlie the findings in the 2009 rule in a manner that would suggest that the mitigation or monitoring should change.

Adaptive Management

NMFS and the Navy conducted an adaptive management meeting in October, 2010, which representatives from the Marine Mammal Commission participated in, wherein we reviewed the Navy monitoring results through August 1, 2010, discussed other Navy research and development efforts, and discussed other new information that could potentially inform decisions regarding Navy mitigation and monitoring. Based on the implementation of the 2010 monitoring, the Navy proposed some slight modifications to their monitoring plan for 2011, which NMFS agreed were appropriate. Beyond those changes, none of the information discussed led NMFS to recommend any modifications to the existing mitigation or monitoring measures. The final modifications to the monitoring plan and justifications are described in Section 13 of the Navy's 2011 LOA Application, which may be viewed at: http://www.nmfs.noaa.gov/pr/permits/incidental.htm.

Integrated Comprehensive Monitoring Report

The 2010 LOA required that the Navy update the ICMP Plan to reflect development in three areas, specifically: (1) Identifying more specific monitoring sub-goals under the major goals that have been identified; (2) characterizing Navy Range Complexes and study areas within the context of the prioritization guidelines described in the ICMP Plan; and (3) continuing to develop data management, organization, and access procedures. The Navy has updated the ICMP Plan as required. Because the ICMP is an evolving Program, we have posted the ICMP on NMFS Web site: http://www.nmfs.noaa.gov/pr/permits/incidental.htm and are specifically requesting input, which the Navy and NMFS will consider and apply as appropriate.

Further, the Navy convened a monitoring meeting in October, 2010 to solicit input from NMFS and marine mammal and acoustic scientists regarding the comprehensive development and improvement of the more specific monitoring that should occur across the Navy's training areas. Subsequent to those discussions, the Navy has developed a scientific advisory group composed of individuals from the research community and academia that will develop a proposed Strategic Plan for Navy monitoring that better considers the biological, logistical, and resource-specific factors that are applicable in each training area (and which are summarized in the updated ICMP) to maximize the effectiveness of Navy monitoring within the context of the information that is most needed. Subsequently, NMFS and MMC representatives will review this proposed Strategic Plan for marine species monitoring, which may reflect monitoring differences in some Navy training areas from what is required in the 2010 LOA.

This Navy-wide Strategic Monitoring Plan will then be available for review and discussion at the required 2011 Navy Monitoring Meeting, which will take place in mid-2011. The Navy and NMFS will then modify the Navy-wide Strategic Plan for monitoring based on applicable input from the 2011 Monitoring Meeting and propose appropriate changes to the monitoring measures in specific LOAs for the different Range Complexes and training areas. For training areas with substantive monitoring modifications, NMFS will subsequently publish proposed LOAs, with the modifications, in the Federal Register and solicit public input. After addressing public comments and making changes as appropriate, NMFS would, as appropriate, issue new LOAs for the different training areas that reflect the updated ICMP and associated new Strategic Plan for Navy monitoring.

Whale Strikes in 2009

In 2009, a Navy vessel associated with the activities covered by the 2009 SOCAL Range Complex regulations collided with and injured or killed two large whales. Of note, in both cases, the Navy was in compliance with the mitigation and monitoring measures required by the rule and LOA, contacted NMFS in a timely manner, and provided the specific information outlined in the SOCAL Stranding Response Plan for whale strikes, as well as additional information. Due to these incidents, NMFS is working on a proposed modification to the 2009 SOCAL rule, which will establish a framework to authorize the incidental take of large whales by injury or mortality for the remainder of the five-year regulatory period.

Authorization

The Navy complied with the requirements of the 2010 LOA. Based on our review of the record, NMFS has determined that the marine mammal take resulting from the 2010 military readiness training and research activities falls within the levels previously anticipated, analyzed, and authorized. Further, the level of taking authorized in 2011 for the Navy's SOCAL Range Complex activities is consistent with our previous findings made for the total taking allowed under the SOCAL Range Complex regulations. Finally, the record supports NMFS' conclusion that the total number of marine mammals taken by the 2011 activities in the SOCAL Range Complex will have no more than a negligible impact on the affected species or stock of marine mammals and will not have an unmitigable adverse impact on the availability of these species or stocks for taking for subsistence uses. Accordingly, NMFS has issued a one-year LOA for Navy training exercises conducted in the SOCAL Range Complex from January 22, 2011, through January 21, 2012.

Dated: January 21, 2011.
Helen M. Golde,
Deputy Director, Office of Protected Resources, National Marine Fisheries Service.

[FR Doc. 2011-1847 Filed 1-26-11; 8:45 am]

BILLING CODE 3510-22-P